DEPARTMENT OF THE INTERIOR

Bureau of Land Management

[CA 680-08-5101-ER B266] [CACA 49138]

Notice of Intent and Notice of Preparation To Prepare a Joint Environmental Impact Statement/Environmental Impact Report and California Desert Conservation Area Plan Amendment, California

AGENCY: Bureau of Land Management, Interior.

ACTION: Notice of Intent/Notice of Preparation.

SUMMARY: In compliance with the National Environmental Policy Act of 1969 (NEPA), as amended, and the California Environmental Quality Act (CEQA), the Department of the Interior, Bureau of Land Management (BLM), together with the County of San Bernardino, California (County), intend to prepare an Environmental Impact Statement/Environmental Impact Report (EIS/EIR) to assess the impacts of the Calnev Pipeline Expansion Project (Calnev Project). The Calnev Project runs adjacent to a portion of the existing Calnev system, from the North Colton terminal in the City of Colton, California to the Las Vegas Terminal in Las Vegas, Nevada. The Calnev Project is proposed by Calnev Pipe Line, LLC (Applicant). The Applicant has requested a new right-of-way (ROW) for pipeline reconstruction and new pipeline construction covering 233 miles. The EIS/EIR will analyze the site-specific and cumulative impacts to the environment from the construction, operation, and maintenance of the new pipeline. Actions under consideration by the BLM are the grant of the ROW and amendment to the California Desert Conservation Area (CDCA) Plan. Actions under consideration by the County are amendment to a franchise agreement and a Conditional Use Permit. The BLM will be the lead agency for NEPA compliance and the County will be the lead agency for the purposes of CEQA compliance.

DATES: A public scoping period of 60 days commences with the publishing of this notice. In order to be assured inclusion in the Draft EIS/EIR, written comments must be received prior to the close of the scoping period on May 12, 2008 at the address identified below. The public is also invited to make comments or hear more about the project at the following public scoping meetings:

Tuesday, April 1, 2008

Rialto Middle School, 6 p.m. to 8 p.m., presentation at 6:30 p.m. 324 N. Palm Ave., Rialto, CA

Wednesday, April 2, 2008

Victor Elementary School District, 6 p.m. to 8 p.m., presentation at 6:30 p.m. (Nisqualli Room), 15115 Nisqualli Road, Victorville, CA

Thursday, April 3, 2008

Parkdale Community Center, 6 p.m. to 8 p.m., presentation at 6:30 p.m. 3200 Ferndale St., Las Vegas

During the public scoping period the BLM and County are soliciting public comment on issues, concerns and opportunities that should be considered in the analysis of the proposed action as well as the planning criteria to be used during consideration of the plan amendment. Comments on issues, potential impacts, or suggestions for additional alternatives may also be submitted in writing to the address listed below. Additional opportunities for public participation and formal comment will occur when the Draft EIS/EIR is issued.

ADDRESSES: Comments and other correspondence should be sent to the BLM Barstow Field Office, attention Edythe Seehafer, Environmental Coordinator, Barstow Field Office, 2601 Barstow Road, Barstow, CA 92311 (760) 252-6021, by fax at (760) 252-6099 or by e-mail at eseehafer@ca.blm.gov. Documents pertinent to this proposal, including comments of respondents, will be available for public review at the BLM Barstow Field Office during regular business hours of 7:30 a.m. to 4 p.m., Monday through Friday, excluding holidays. Before including your address, telephone number, e-mail address, or other personal identifying information in your comment, you should be aware that your entire comment, including your personal identifying information, may be made publicly available at any time. While you may ask us in your comment to withhold your personal identifying information from public review, we cannot guarantee that we will be able to do so. All submissions from organizations, businesses, and from individuals identifying themselves as representatives or officials of organizations or businesses will be made available for public inspection in their entirety.

FOR FURTHER INFORMATION CONTACT: For further information and/or to have your name added to our mailing list, contact Edythe Seehafer at the contact numbers and addresses above or Carrie Hyke, AICP, Principal Planner, San Bernardino County, Advance Planning Division, 385 N. Arrowhead Ave., First Floor, San Bernardino, CA 92415-0182, Tel. 909-387-4147.

SUPPLEMENTARY INFORMATION: Calnev Pipe Line, LLC has applied for a ROW on public lands to expand and reconstruct 233 miles of pipeline in California and Nevada. The pipeline transports jet fuel from the North Colton terminal in Colton, California to Bracken Junction in Las Vegas, Nevada. Projected increases in commercial air traffic in and out of McCarran International Airport in Las Vegas will require significant increases in jet fuel supplies over the next 20 years. An expanded and modernized pipeline will serve that need. The project would include construction, operation and maintenance of a new 16-inch diameter pipeline from Colton to Las Vegas; new pumps, an electrical substation and other ancillary facilities to increase pumping at Colton; a new pump station, electrical substation and ancillary facilities at Baker; as well as new or modified connections to existing laterals. Pipeline construction will take place over 12 months and is anticipated to begin in late 2009 or early 2010.

As proposed, the Project would require a right-of-way (ROW) on lands managed by the BLM, the U.S. Forest Service (USFS) and the Department of Defense (DoD), a franchise agreement and Conditional Use Permit from the County, and appropriate permits from state, federal and local jurisdictions. Therefore, approval of the Project will require compliance with NEPA and CEQA, as well as ROW rules promulgated under the Mineral Leasing Act. The BLM will be the NEPA lead agency and the County will serve as the CEQA lead agency. The BLM and County have agreed to work together on this Project and a Joint EIS/EIR will be prepared.

Since approval of the project as currently proposed would require amendment of the BLM's land-use plan, the California Desert Conservation Area (CDCA) Plan. The plan amendment process will be conducted concurrent with, and integrated with, the NEPA process, as part of the EIS/EIR. The analytical process for consideration of a plan amendment is the same as the analytical process for consideration of a project under NEPA, although a few additional considerations are required. See BLM Handbook, H 1601-1, App. F, p. 14 et seq. for an outline of an EIS-level Plan Amendment. Additional coordination activities with the Governor (Consistency Review), cooperating agencies, and the public, particularly with respect to timeframes for feedback of draft and final documents, are integrated into a NEPA process that also includes a plan amendment. Also, proposed planning decisions are identified and distinguished from appealable (NEPA) decisions. Proposed planning decisions are protested to the BLM Director and appealable decisions are taken to the Interior Board of Land Appeals for adjudication. As this is a joint EIS/EIR process, cooperating agency status for the County is already integrated into the process. BLM will consider approval of the proposed Project in a manner that avoids undue or unnecessary impacts to the public lands consistent with the Federal Land Policy and Management Act of 1976 (FLPMA) and the CDCA Plan of 1980, as amended.

Planning Criteria

Planning criteria have been developed to ensure that the plan amendment is tailored to the issues identified and ensure that unnecessary data collection and analysis would be avoided. These criteria may change in response to public comment and coordination with State and local governments or other Federal agencies. The criteria developed for the Calnev Project EIS/EIR include the following:

1. Comply with applicable laws, Executive Orders, and regulations.

2. Minimize deviations from the existing utility corridor to the extent feasible.

3. Select an alignment in consideration of its effects on other critical linear public utilities and transportation corridors.

4. Analyze a corridor modification that reestablishes a complete corridor along I-15 adequate to accommodate the current Calnev project and anticipated future projects and that avoids crossing lands within the Mojave National Preserve.

BLM must take into consideration state law when granting the ROW. The EIS/EIR will describe and analyze the proposed project as proposed and will include: (1) BLM measures to avoid, minimize, or mitigate impacts on the environment; (2) Additional mitigation measures; (3) The “No Action” alternative; and (4) Alternative pipeline routes, segments or other distribution methods. Through public scoping BLM expects to identify various issues, potential impacts and mitigation measures. BLM has identified a potential list of issues that will need to be addressed in this analysis including but not limited to: Air quality; social and economic, traffic; ground and surface water quantity and quality; plant and animal species including special status species; cultural resources; visual resources; and public health and safety. If approved, this pipeline project on public lands would be authorized in accordance with the Mineral Leasing Act at Title 30, Chapter 3A, Subchapter I, Subsection 185.

Dated: March 5, 2008.
Mickey Quillman,
Acting Field Manager, Barstow Field Office.

[FR Doc. E8-5004 Filed 3-12-08; 8:45 am]

BILLING CODE 4310-40-P